INTERNATIONAL BOUNDARY AND WATER COMMISSION, UNITED STATES AND MEXICO

United States Section; Notice of Availability of a Final Environmental Assessment and Finding of No Significant Impact for Flood Control Improvements: International Dam to Riverside Diversion Dam Levee Segment within the Rio Grande Rectification Project, located in El Paso County, TX

AGENCY: United States Section, International Boundary and Water Commission (USIBWC), United States and Mexico.

ACTION: Notice of Availability of Final Environmental Assessment (EA) and Finding of No Significant Impact (FONSI).

SUMMARY: Pursuant to Section 102(2)(c) of the National Environmental Policy Act of 1969; the Council on Environmental Quality Final Regulations (40 CFR parts 1500 through 1508); and the United States Section's Operational Procedures for Implementing Section 102 of NEPA, published in the Federal Register September 2, 1981, (46 FR 44083); the United States Section hereby gives notice that the Final Environmental Assessment and Finding of No Significant Impact for Flood Control Improvements: International Dam to Riverside Diversion Dam Levee Segment within the Rio Grande Rectification Project, in El Paso County, Texas are available.

FOR FURTHER INFORMATION CONTACT: Gilbert Anaya, Supervisory Environmental Protection Specialist; Environmental Management Division; United States Section, International Boundary and Water Commission; 4171 N. Mesa, C-100; El Paso, Texas 79902. Telephone: (915) 832-4702, e-mail: gilbertanaya@ibwc.state.gov.

SUPPLEMENTARY INFORMATION: The United States Section of the International Boundary and Water Commission (USIBWC) has prepared this Environmental Assessment (EA) for the proposed action to raise the levee system within the reach from International Dam to Riverside Diversion Dam. The levee system under consideration for this EA, approximately 15-miles long, is located entirely in El Paso County, Texas. Within this reach the USIBWC identified 8.14 miles of levee system as one of the priority areas within the Rio Grande Rectification Project for flood control improvements. The need for improvements to the levee system was determined by hydraulic modeling completed by the USIBWC in 2003. The USIBWC hydraulic study for this reach indicated that an increase in levee height would be required to meet design criteria for flood protection. An increase from 0.5 to 2.5 feet is anticipated for an approximate 8.14-mile levee segment.

The Environmental Assessment assesses potential environmental impacts of the Proposed Action and the No Action Alternative. A Finding of No Significant Impact was issued for the Proposed Action, including mitigation measures, based on a review of the facts and analyses contained in the Environmental Assessment.

FEMA decertification of USIBWC levees in El Paso County, TX and Dona Ana County, New Mexico, in February 2006, has resulted in the need to upgrade the levees to FEMA criteria; draft Digital Flood Insurance Rate Maps will be issued in spring of 2007. The USIBWC plans on raising approximately 8.14-miles of USIBWC levees within the city limits of El Paso to meet the minimum 3 feet of freeboard criteria. This will enable USIBWC to partially certify the reach from American Dam to Riverside Dam in the Rio Grande Rectification Project before the end of calendar year 2007.

Availability: Electronic copies of the Final EA and FONSI are available from the USIBWC Home Page at http://www.ibwc.state.gov.

Dated: May 15, 2007.
Susan Daniel,
General Counsel.

[FR Doc. E7-9736 Filed 5-18-07; 8:45 am]

BILLING CODE 7010-01-P